SECURITIES AND EXCHANGE COMMISSION

[Release No. 34-42724; File No. SR-NSCC-00-01]

Self-Regulatory Organizations; National Securities Clearing Corporation; Notice of Filing and Immediate Effectiveness of Proposed Rule Change Revising Fee Schedule

April 26, 2000.

Pursuant to Section 19(b)(1) of the Securities Exchange Act of 1934 (“Act”).¹ notice is hereby given that on February 23, 2000, the National Securities Clearing Corporation (“NSCC”) filed with the Securities and Exchange Commission (“Commission”) the proposed rule change as described in Items I, II, III below, which items have been prepared primarily by NSCC. The Commission is publishing this notice to solicit comments on the proposed rule change from interested parties.

¹ 15 U.S.C. 78s(b)(1).

I. Self-Regulatory Organization's Statement of the Terms of Substance of the Proposed Rule Change

The proposed rule change revises NSCC's fee schedule.

II. Self-Regulatory Organization's Statement of the Purpose of, and Statutory Basis for, the Proposed Rule Change

In its filing with the Commission, NSCC included statements concerning the purpose of and basis for the proposed rule change and discussed any comments it received on the proposed rule change. The text of these statements may be examined at the places specified in Item IV below. NSCC has prepared summaries, set forth in sections (A), (B), and (C) below, of the most significant aspects of these statements.²

² The Commission has modified the text of the summaries prepared by NSCC.

(A) Self-Regulatory Organization's Statement of the Purpose of, and Statutory Basis for, the Proposed Rule Change

The purpose of the proposed rule filing is to reduce the fees for certain NSCC services, Trade Recording, Trade Clearance, and ACATSTIF.³ Currently, the trade recording fee for each side of each stock, warrant, or right item entered for settlement, but not for comparison by NSCC, is $.006 per 100 shares with a minimum fee of $.024 and a maximum fee of $.36. Under the proposed rule change, NSCC will reduce the fee for each side entered to $.005 per 100 shares with a minimum fee of $.020 and a maximum fee of $.30.

³ Automated Customer Account Transfer Service Initiation Form.

The Trade Clearance fee ⁴ for receipts from Continuous Net Settlement (“CNS”) to satisfy a long valued position currently is $.40 per issue received. The proposed rule change reduces the fee for such items to $.35 per issue received.

⁴ The Trade Clearance fees represent fees for netting, issuing instructions to receive or deliver; effecting book-entry deliveries, and related activities.

The Trade Clearance fee for deliveries to CNS in the night processing cycle to cover a short valued position currently is $.40 per delivery. The proposed rule change reduces the fee for these items to $.35 per delivery.

The Trade Clearance fee for deliveries to CNS in the day processing cycle to cover a short valued position currently is $1.00 per delivery. The proposed rule change reduces the fee for these items to $.75 per delivery.

The Trade Clearance fee for fails to deliver to CNS (Short-in-CNS) currently is $.35 per item. The proposed rule change reduces the fee for these items to $.25 per delivery.

The Trade Clearance fee for trade clearance (netting) currently is $.03 per side. The proposed rule change reduces the fee for these items to $.025 per side.

The Trade Clearance fee for designated valued deliveries (transaction Processing) entered into the clearance system through special representation procedures currently is $.10 per side. The proposed rule change reduces the fee for these items to $.075 per side.

The ACATSTIF fee represents the fee charged by NSCC's enabling members and Qualified Securities Depositories (“The Depository Trust Company”) to transfer accounts of their customers between themselves on an automated basis through the Automated Customer Account Transfer Service. The ACATSTIF fee currently is $1.00 per submission. The proposed rule change reduces the fee for such items to $.85 per submission.

NSCC intends to give members the benefit of these fee changes effective as of January 1, 2000. The necessary adjustments to accommodate these reductions will be reflected in billing statements transmitted in February 2000.

NSCC believes the proposed rule change is consistent with the requirements of Section 17A of the Act ⁵ and the rules and regulations thereunder applicable to NSCC and in particular with Section 17A(b)(3)(F) of the Act because it provides for the equitable allocation of dues, fees, and other charges among NSCC's participants.

⁵ 15 U.S.C. 78q-1.

(B) Self-Regulatory Organization's Statement on Burden on Composition

NSCC does not believe that the proposed rule change will impact or impose a burden on competition.

(C) Self-Regulatory Organization's Statement on Comments on the Proposed Rule Change Received From Members, Participants or Others

No written comments have been solicited or received. NSCC will notify the Commission of any written comments received by NSCC.

III. Date of Effectiveness of the Proposed Rule Change and Timing for Commission Action

The foregoing rule change has become effective pursuant to Section 19(b)(3)(A)(ii) ⁶ of the Act and Rule 19b-4(f)(2) ⁷ promulgated thereunder because the proposal establishes or changes a due, fee, or other charge imposed by NSCC. At any time within sixty days of the filing of such proposed rule change, the Commission may summarily abrogate such rule change if it appears to the Commission that such action is necessary or appropriate in the public interest, for the protection of investors, or otherwise in furtherance of the purposes of the Act.

⁶ 15 U.S.C. 78s(b)(3)(A)(ii).

⁷ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 Fifth Street, N.W., Washington, D.C. 20549-0609.

Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 450 Fifth Street, N.W., Washington, D.C. 20549. Copies of such filing also will be available for inspection and copying at the principal office of NSCC. All submissions should refer to File No. SRO-NSCC—00-01 and should be submitted by May 24, 2000.

For the Commission by the Division of Market Regulation, pursuant to delegated authority.⁸
⁸ 17 CFR 200.30-3(a)(12).
Margaret H. McFarland,
Deputy Secretary.

[FR Doc. 00-11004 Filed 5-2-00; 8:45 am]

BILLING CODE 8010-01-M